POSTAL SERVICE

39 CFR Part 233

Mail Covers

AGENCY: Postal Service.

ACTION: Final rule.

SUMMARY: The U.S. Postal Service is amending the Code of Federal Regulations to revise the definitions of sealed mail and unsealed mail to reflect current classifications.

DATES: Effective Date: June 1, 2009.

FOR FURTHER INFORMATION CONTACT: Lawrence Katz, Inspector in Charge, Office of Counsel, U.S. Postal Inspection Service, 202-268-7732.

SUPPLEMENTARY INFORMATION: The current mail cover regulations provide definitions for sealed and unsealed mail. Certain words used (e.g., second-class, third-class, and fourth-class mail) no longer reflect current classifications. The definitions of sealed and unsealed mail are revised to mirror mail classification definitions found in the Mailing Standards of the United States Postal Service, Domestic Mail Manual, and in the International Mail Manual.

List of Subjects in 39 CFR Part 233

Administrative practice and procedure, Crime, Law enforcement, Penalties, Privacy.

For the reasons stated in the preamble, the Postal Service amends 39 CFR part 233 as set forth below:

PART 233—[AMENDED]

1. The authority citation for part 233 continues to read as follows:

Authority: 39 U.S.C. 101, 102, 202, 204, 401, 402, 403, 404, 406, 410, 411, 1003, 3005(e)(1); 12 U.S.C. 3401-3422; 18 U.S.C. 981, 1956, 1957, 2254, 3061; 21 U.S.C. 881; Omnibus Budget Reconciliation Act of 1996, sec. 662 (Pub. L. 104-208).

2. In § 233.3, the definitions of sealed mail and unsealed mail in paragraphs (c)(3) and (c)(4) are revised to read as follows;

§ 233.3 Mail covers.

* * * * *

(c) * * *

(3) Sealed mail is mail which under postal laws and regulations is included within a class of mail maintained by the Postal Service for the transmission of letters sealed against inspection. Sealed mail includes: First-Class Mail; Priority Mail; Express Mail; Express Mail International; Global Express Guaranteed items containing only documents; Priority Mail International flat-rate envelopes and small flat-rate boxes; International Priority Airmail, except M-bags; International Surface Air Lift, except M-bags; First-Class Mail International; Global Bulk Economy, except M-bags; certain Global Direct mail as specified by customer contract; and International Transit Mail.

(4) Unsealed mail is mail which under postal laws or regulations is not included within a class of mail maintained by the Postal Service for the transmission of letters sealed against inspection. Unsealed mail includes: Periodicals; Standard Mail; Package Services; incidental First-Class Mail attachments and enclosures; Global Express Guaranteed items containing non-documents; Priority Mail International, except flat-rate envelopes and small flat-rate boxes; International Direct Sacks—M-bags; certain Global Direct mail as specified by customer contract; and all items sent via “Free Matter for the Blind or Handicapped” under 39 U.S.C. 3403-06 and International Mail Manual 270.

* * * * *

Stanley F. Mires,
Chief Counsel, Legislative.

[FR Doc. E9-9158 Filed 4-21-09; 8:45 am]

BILLING CODE 7710-12-P